NUCLEAR REGULATORY COMMISSION

[Docket No. 52-043; NRC-2010-0215]

PSEG Power, LLC and PSEG Nuclear LLC; PSEG Site

AGENCY: Nuclear Regulatory Commission.

ACTION: Early site permit and record of decision; issuance.

SUMMARY: The U.S. Nuclear Regulatory Commission (NRC) has issued early site permit (ESP) number ESP-005 to PSEG Power, LLC and PSEG Nuclear, LLC (PSEG). In addition, the NRC has prepared a summary Record of Decision (ROD) that supports the NRC's decision to issue ESP No. ESP-005.

DATES: ESP No. ESP-005 became effective on May 5, 2016.

ADDRESSES: Please refer to Docket ID NRC-2010-0215 when contacting the NRC about the availability of information regarding this document. You may obtain publicly-available information related to this document using any of the following methods:

• Federal Rulemaking Web site: Go to http://www.regulations.gov and search for Docket ID NRC-2010-0215. Address questions about NRC dockets to Carol Gallagher; telephone: 301-415-3463; email: Carol.Gallagher@nrc.gov. For technical questions, contact the individuals listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents,” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document. In addition, for the convenience of the reader, the ADAMS accession numbers are provided in a table in the section of this notice entitled, Availability of Documents.

• NRC's PDR: You may examine and purchase copies of public documents at the NRC's PDR, Room O1-F21, One White Flint North, 11555 Rockville Pike, Rockville, Maryland 20852.

FOR FURTHER INFORMATION CONTACT: Prosanta Chowdhury, telephone: 301-415-1647, email: Prosanta.Chowdhury@nrc.gov regarding safety matters, or Allen Fetter, telephone: 301-415-8556, email: Allen.Fetter@nrc.gov regarding environmental matters. Both are staff members of the Office of New Reactors, U.S. Nuclear Regulatory Commission, Washington, DC 20555-0001.

SUPPLEMENTARY INFORMATION:

I. Introduction

Under Section 2.106 of title 10 of the Code of Federal Regulations (10 CFR), the NRC is providing notice of the issuance of ESP No. ESP-005 to the Permittee, and under 10 CFR 50.102(c), the NRC is providing notice that the ROD has been issued. With respect to the ESP application filed by PSEG, the NRC finds that the applicable standards and requirements of the Atomic Energy Act of 1954, as amended, (AEA) and the Commission's regulations have been met. The NRC finds that any required notifications to other agencies or bodies have been duly made and that there is reasonable assurance that the site is in conformity with the permit, the provisions of the AEA, and the Commission's regulations. Furthermore, the NRC finds that the Permittee is technically qualified to engage in the activities authorized, and that issuance of the permit will not be inimical to the common defense and security or to the health and safety of the public. Finally, the NRC finds that the findings required by subpart A of 10 CFR part 51 have been made.

Accordingly, the ESP was issued on May 5, 2016, and became effective immediately.

II. Further Information

The NRC has prepared a final safety evaluation report (FSER) and final environmental impact statement (FEIS) that document the information reviewed and the NRC's conclusions. The Atomic Safety and Licensing Board (ASLB) issued its Initial Decision on April 26, 2016, following the March 24, 2016, mandatory hearing on the staff's review, authorizing the NRC staff to issue to PSEG an ESP for the PSEG Site. The ASLB's Initial Decision constitutes the NRC's ROD. The NRC also prepared a document summarizing the ROD to accompany its actions on the ESP application; this Summary ROD incorporates by reference materials contained in the FEIS. The FSER, FEIS, Summary ROD, and accompanying documentation included in the ESP package, as well as the ASLB Initial Decision, are available online in the ADAMS Public Document collection at http://www.nrc.gov/reading-rm/adams.html. From this site, persons can access the NRC's ADAMS, which provides text and image files of NRC's public documents.

III. Availability of Documents

The documents identified in the following table are available to interested persons through the ADAMS Public Documents collection. A copy of the early site permit application is also available for public inspection at the NRC's PDR and at http://www.nrc.gov/reactors/new-reactors/esp.html.

Document | ADAMS Accession No.
Final Safety Evaluation Report for an Early Site Permit at the PSEG Site | ML15229A119
Final Environmental Impact Statement for an Early Site Permit at the PSEG Site | ML15176A444
Atomic and Safety Licensing Board's Initial Decision following mandatory hearing (ROD) | ML16117A383
Summary Record of Decision | ML16056A490
Letter transmitting Early Site Permit number ESP-005 and accompanying documentation | ML16084A780
Early Site Permit number ESP-005 | ML16084A798
PSEG Site, Early Site Permit Application, Revision 4, June 5, 2015 | ML15168A201

Dated at Rockville, Maryland, this 10th day of May 2016.
For the Nuclear Regulatory Commission.
Mark Delligatti,
Deputy Director, Division of New Reactor Licensing, Office of New Reactors.

[FR Doc. 2016-11470 Filed 5-13-16; 8:45 am]

BILLING CODE 7590-01-P